DEPARTMENT OF COMMERCE

Foreign-Trade Zones Board

[B-29-2014]

Foreign-Trade Zone (FTZ) 72—Indianapolis, Indiana, Notification of Proposed Production Activity, Ingram Micro Mobility/Brightpoint North America L.P., Subzone 72S (Kitting of Pedometer Products and Accessories), Plainfield, Indiana

The Indianapolis Airport Authority, grantee of FTZ 72, submitted a notification of proposed production activity to the FTZ Board on behalf of Ingram Micro Mobility/Brightpoint North America L.P., within Subzone 72S in Plainfield, Indiana. The notification conforming to the requirements of the regulations of the FTZ Board (15 CFR 400.22) was received on March 20, 2014.

Ingram Micro Mobility/Brightpoint North America L.P. already has authority for cell phone kitting within Subzone 72S. The current request would add finished products and foreign status materials/components for the kitting of pedometer products and accessories to the scope of authority. Pursuant to 15 CFR 400.14(b), additional FTZ authority would be limited to the specific foreign-status materials/components and specific finished products described in the submitted notification (as described below) and subsequently authorized by the FTZ Board.

Production under FTZ procedures could exempt Ingram Micro Mobility/Brightpoint North America L.P. from customs duty payments on the foreign status materials/components used in export production. On its domestic sales, Ingram Micro Mobility/Brightpoint North America L.P. would be able to choose the duty rates during customs entry procedures that apply to pedometers, wristworn pedometers, clip accessory kits, sleepband accessory kits, accessory charging kits, replacement band kits, tracker kits, accessory band kits, accessory clasp kits and electronic scales (duty rate ranges from duty-free to 7%) for the foreign status materials/components noted below and in the existing scope of authority. Customs duties also could possibly be deferred or reduced on foreign status production equipment.

The materials/components sourced from abroad include: Silicone sleeves; plastic opening tools; plastic clips; silicone wristbands; plastic parts; holsters; pouches; plastic pegs, pouches, claws and trays; wireless transceivers; USB charging cables; cable assemblies; rubber perforated wristbands; electronic scales; metal pegs; printed paper; corrugated paperboard; glue; pedometers; chargers; dongles; paper inserts; ultra base stations; flex trackers; and, force wristbands with trackers (duty rate ranges from duty-free to 7%).

Public comment is invited from interested parties. Submissions shall be addressed to the Board's Executive Secretary at the address below. The closing period for their receipt is May 12, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For Further Information Contact: Elizabeth Whiteman at Elizabeth.Whiteman@trade.gov or (202) 482-0473.

Dated: March 25, 2014.
Andrew McGilvray,
Executive Secretary.

[FR Doc. 2014-07129 Filed 3-28-14; 8:45 am]

BILLING CODE 3510-DS-P